DEPARTMENT OF ENERGY

Federal Energy Regulatory Commission

[Docket No. CP08-22-000]

DCP Midstream, LP; Notice of Petition for Declaratory Order

November 28, 2007.

Take notice that on November 13, 2007, DCP Midstream, LP (DCP Midstream) 370 17th Street, Suite 2500, Denver, Colorado 80202 filed in Docket No. CP08-22-000, under Rule 207(a)(2) of the Commission's Rules of Practice and Procedure, 18 CFR 385.207(a)(2)(2007), a petition for a declaratory order requesting that the Commission disclaim jurisdiction over certain natural gas facilities DCP Midstream would purchase from Transcontinental Gas Pipe Line Corporation (Transco),¹ because such facilities perform a gathering function and would be exempt from the Commission's jurisdiction under section 1(b) of the Natural Gas Act.

¹ Transco filed an application with the Commission in Docket No. CP08-25-000 on November 13, 2007, requesting permission and approval to abandon the subject facilities by sale to DCP Midstream.

DCP Midstream states that it would purchase Transco's South Texas facilities, consisting of approximately 135.6 miles of natural gas pipelines and related meter stations, valves, miscellaneous field and tie-in piping, other appurtenances along the pipeline segments, and related realty and easement rights. These facilities would handle unprocessed natural gas in Hidalgo, Willacy, Starr, Brooks, and Jim Wells Counties, Texas, and would be incorporated into DCP Midstream's existing south Texas gathering facilities for processing at DCP Midstream's LaGloria Processing Plant.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: December 19, 2007.

Kimberly D. Bose,
Secretary.

[FR Doc. E7-23618 Filed 12-5-07; 8:45 am]

BILLING CODE 6717-01-P